NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Cyberinfrastructure (#25150).

Date and Time: September 12, 2024-September 13, 2024 10 a.m.-3:30 p.m. (eastern).

Place: NSF, 2415 Eisenhower Avenue, Alexandria, VA 22314 (In-Person)

The final meeting agenda and instructions to register and attend the meeting will be posted on the ACCI website: https://new.nsf.gov/cise/oac/advisory-committee.

Type of Meeting: Open.

Contact Persons: Walton, Amy, National Science Foundation, 2415 Eisenhower Avenue, Alexandria, VA 22314; Telephone: (703) 292-4538.

Minutes: May be obtained from Christine Christy, National Science Foundation, 2415 Eisenhower Avenue, Alexandria, VA 22314; Telephone: 703-292-2221 and will be posted within 90-days after the meeting end date to the ACCI website: https://new.nsf.gov/cise/oac/advisory-committee.

Purpose of Meeting: To provide advice, recommendations and counsel on major goals and policies pertaining to engineering programs and activities.

Agenda: Updates on NSF wide OAC activities https://new.nsf.gov/cise/oac/advisory-committee.

Dated: August 6, 2024.
Crystal Robinson,
Committee Management Officer.

[FR Doc. 2024-17788 Filed 8-8-24; 8:45 am]

BILLING CODE 7555-01-P